DEPARTMENT OF TRANSPORTATION

National Highway Traffic Safety Administration

[Docket No. NHTSA-2000-7173]

Notice of Receipt of Petition for Decision that Nonconforming 1988-1990 Jaguar XJS and XJ6 Passenger Cars Are Eligible for Importation

AGENCY: National Highway Traffic Safety Administration, DOT.

ACTION: Notice of receipt of petition for decision that nonconforming 1988-1990 Jaguar XJS and XJ6 passenger cars are eligible for importation.

SUMMARY: This document announces receipt by the National Highway Traffic Safety Administration (NHTSA) of a petition for a decision that 1988-1990 Jaguar XJS and XJ6 passenger cars that were not originally manufactured to comply with all applicable Federal motor vehicle safety standards are eligible for importation into the United States because (1) they are substantially similar to vehicles that were originally manufactured for importation into and sale in the United States and that were certified by their manufacturer as complying with the safety standards, and (2) they are capable of being readily altered to conform to the standards.

DATES: The closing date for comments on the petition is May 11, 2000.

ADDRESSES: Comments should refer to the docket number and notice number, and be submitted to: Docket Management, Room PL-401, 400 Seventh St., SW, Washington, DC 20590. [Docket hours are from 9 am to 5 pm].

FOR FURTHER INFORMATION CONTACT: George Entwistle, Office of Vehicle Safety Compliance, NHTSA (202-366-5306).

SUPPLEMENTARY INFORMATION:

Background

Under 49 U.S.C. 30141(a)(1)(A), a motor vehicle that was not originally manufactured to conform to all applicable Federal motor vehicle safety standards shall be refused admission into the United States unless NHTSA has decided that the motor vehicle is substantially similar to a motor vehicle originally manufactured for importation into and sale in the United States, certified under 49 U.S.C. 30115, and of the same model year as the model of the motor vehicle to be compared, and is capable of being readily altered to conform to all applicable Federal motor vehicle safety standards.

Petitions for eligibility decisions may be submitted by either manufacturers or importers who have registered with NHTSA pursuant to 49 CFR part 592. As specified in 49 CFR 593.7, NHTSA publishes notice in the Federal Register of each petition that it receives, and affords interested persons an opportunity to comment on the petition. At the close of the comment period, NHTSA decides, on the basis of the petition and any comments that it has received, whether the vehicle is eligible for importation. The agency then publishes this decision in the Federal Register.

J.K. Technologies of Baltimore, Maryland (“J.K.”)(Registered Importer 90-006) has petitioned NHTSA to decide whether 1988-1990 Jaguar XJS and XJ6 passenger cars are eligible for importation into the United States. The vehicles which J.K. believes are substantially similar are 1988-1990 Jaguar XJS and XJ6 passenger cars that were manufactured for importation into, and sale in, the United States and certified by their manufacturer as conforming to all applicable Federal motor vehicle safety standards.

The petitioner claims that it carefully compared non-U.S. certified 1988-1990 Jaguar XJS and XJ6 passenger cars to their U.S.-certified counterparts, and found the vehicles to be substantially similar with respect to compliance with most Federal motor vehicle safety standards.

J.K. submitted information with its petition intended to demonstrate that non-U.S. certified 1988-1990 Jaguar XJS and XJ6 passenger cars, as originally manufactured, conform to many Federal motor vehicle safety standards in the same manner as their U.S. certified counterparts, or are capable of being readily altered to conform to those standards.

Specifically, the petitioner claims that non-U.S. certified 1988-1990 Jaguar XJS and XJ6 passenger cars are identical to their U.S. certified counterparts with respect to compliance with Standard Nos. 102 Transmission Shift Lever Sequence . . . ., 103 Defrosting and Defogging Systems, 104 Windshield Wiping and Washing Systems, 105 Hydraulic Brake Systems, 106 Brake Hoses, 109 New Pneumatic Tires, 113 Hood Latch Systems, 116 Brake Fluid, 124 Accelerator Control Systems, 201 Occupant Protection in Interior Impact, 202 Head Restraints, 203 Impact Protection for the Driver from the Steering Control System (for all vehicles except the 1990 Jaguar XJS, to which the standard is inapplicable because the vehicle meets the frontal barrier crash test requirements in paragraph S5.1 of Standard No. 208), 204 Steering Control Rearward Displacement, 205 Glazing Materials, 206 Door Locks and Door Retention Components, 207 Seating Systems, 209 Seat Belt Assemblies, 210 Seat Belt Assembly Anchorages, 212 Windshield Retention, 216 Roof Crush Resistance, 219 Windshield Zone Intrusion, 301 Fuel System Integrity, and 302 Flammability of Interior Materials.

Additionally, the petitioner states that non-U.S. certified 1988-1990 Jaguar XJS and XJ6 passenger cars comply with the Bumper Standard found in 49 CFR Part 581.

Petitioner also contends that the vehicles are capable of being readily altered to meet the following standards, in the manner indicated:

Standard No. 101 Controls and Displays: (a) substitution of a lens marked “Brake” for a lens with a noncomplying symbol on the brake failure indicator lamp; (b) replacement of the speedometer with one calibrated in miles per hour. The petitioner states that owing to a shortage of dealer available parts for earlier models, these parts may be purchased from aftermarket Jaguar suppliers, and that in some cases the instrument clusters will be replaced with complete units as opposed to individual parts.

Standard No. 108 Lamps, Reflective Devices and Associated Equipment: Inspection of all vehicles, and, where necessary, (a) installation of U.S.-model headlamps and front sidemarker lamps; (b) installation of U.S.-model taillamp assemblies which incorporate rear sidemarker lights; (c) installation of a U.S.-model high mounted stop lamp.

Standard No. 110 Tire Selection and Rims: installation of a tire information placard on vehicles that are not already so equipped.

Standard No. 111 Rearview Mirror: replacement of the passenger side rearview mirror with a U.S.-model component on vehicles that are not already so equipped.

Standard No. 114 Theft Protection: installation of a warning buzzer and a warning buzzer microswitch in the steering lock assembly on vehicles that are not already so equipped.

Standard No. 118 Power Window Systems: installation, on vehicles that are not already so equipped, of a relay in the power window system so that the window transport is inoperative when the ignition is switched off.

Standard No. 208 Occupant Crash Protection:

All vehicles: installation of a safety belt warning buzzer, wired to the driver's seat belt latch.

1988-1989 Jaguar XJS and the 1988-1990 Jaguar XJS: replacement of the motorized automatic belts with U.S.-model components on vehicles that are not already so equipped. The petitioner states that these vehicles are equipped with combination lap and shoulder belts at the rear outboard seating positions and with a lap belt at the rear center seating position.

1990 Jaguar XJS: replacement of the driver's side air bag and knee bolster with U.S.-model components on vehicles that are not already so equipped. The petitioner states that these vehicles are equipped with combination lap and shoulder belts at the front and rear outboard seating positions, and “with rear center seat lap belt.”

Standard No. 214 Side Impact Protection: installation of U.S.-model doorbars in vehicles that are not already so equipped.

The petitioner states that all vehicles will be inspected prior to importation to ensure that they comply with the parts marking requirements of the Theft Prevention Standard at 49 CFR Part 541, and that these markings will be embossed or engraved on any required parts from which they are missing.

The petitioner also states that a vehicle identification plate must be affixed to the vehicle near the left windshield post and a reference and certification label must be affixed in the area of the left front door post to meet the requirements of 49 CFR Part 565.

Interested persons are invited to submit comments on the petition described above. Comments should refer to the docket number and be submitted to: Docket Management, Room PL-401, 400 Seventh St., SW, Washington, DC 20590. [Docket hours are from 9 am to 5 pm]. It is requested but not required that 10 copies be submitted.

All comments received before the close of business on the closing date indicated above will be considered, and will be available for examination in the docket at the above address both before and after that date. To the extent possible, comments filed after the closing date will also be considered. Notice of final action on the petition will be published in the Federal Register pursuant to the authority indicated below.

Authority: 49 U.S.C. 30141(a)(1)(A) and (b)(1); 49 CFR 593.8; delegations of authority at 49 CFR 1.50 and 501.8.

Issued on: April 6, 2000.
Marilynne Jacobs,
Director, Office of Vehicle Safety Compliance.

[FR Doc. 00-8939 Filed 4-10-00; 8:45 am]

BILLING CODE 4910-59-P